DEPARTMENT OF COMMERCE

National Oceanic and Atmospheric Administration

[RTID 0648-XY074]

Endangered and Threatened Species; Initiation of a 5-Year Review for the Arctic, Okhotsk, Baltic, and Ladoga Subspecies of the Ringed Seal; Extension of Information Request Period

AGENCY: National Marine Fisheries Service (NMFS), National Oceanic and Atmospheric Administration (NOAA), Department of Commerce.

ACTION: Notice; extension of information request period.

SUMMARY: NMFS hereby extends the information request period on the notice of initiation of a 5-year review of the Arctic (Pusa hispida hispida), Okhotsk (Pusa hispida ochotensis), Baltic (Pusa hispida botnica), and Ladoga (Pusa hispida ladogensis) subspecies of the ringed seal under the Endangered Species Act (ESA).

DATES: Information must be received by March 26, 2021.

ADDRESSES: Submit your information, identified by docket number NOAA-NMFS-2020-0014, by either of the following methods:

• Federal e-Rulemaking Portal: Go to www.regulations.gov/#!docketDetail;D=NOAA-NMFS-2020-0014, click the “Comment Now!” icon, complete the required fields, and enter or attach your submission of information.

• Mail: Submit written information to Jon Kurland, Assistant Regional Administrator for Protected Resources, Alaska Region NMFS, Attn: Records Office. Mail comments to P.O. Box 21668, Juneau, AK 99802-1668.

Instructions: NMFS may not consider submissions of information if they are sent by any other method, to any other address or individual, or received after the comment period ends. All submissions of information received are a part of the public record and NMFS will post the submissions for public viewing on www.regulations.gov without change. All personal identifying information (e.g., name, address, etc.), confidential business information, or otherwise sensitive information submitted voluntarily by the sender is publicly accessible. NMFS will accept anonymous submissions of information (enter “N/A” in the required fields if you wish to remain anonymous).

FOR FURTHER INFORMATION CONTACT: Tammy Olson, NMFS Alaska Region, 907-271-2373, tammy.olson@noaa.gov.

SUPPLEMENTARY INFORMATION: On November 27, 2020, we announced the initiation of a 5-year review of four subspecies of the ringed seal under the ESA (85 FR 76017). As a part of that notice, we solicited information relevant to the review and announced a 60-day information request period to end on January 26, 2021. NMFS received two requests to extend the information request period to March 26, 2021, in order to provide additional time to gather relevant information and prepare submissions in a thorough manner. We are therefore extending the close of the information request period to March 26, 2021, as requested, to provide additional time for public input.

Authority: 16 U.S.C. 1531 et seq.

Dated: January 12, 2021.
Angela Somma,
Chief, Endangered Species Conservation Division, Office of Protected Resources, National Marine Fisheries Service.

[FR Doc. 2021-00844 Filed 1-14-21; 8:45 am]

BILLING CODE 3510-22-P